TENNESSEE VALLEY AUTHORITY

Charter Renewal of the Regional Resource Stewardship Council

AGENCY: Tennessee Valley Authority (TVA).

ACTION: Renewal of Federal Advisory Committee.

SUMMARY: Pursuant to the Federal Advisory Committee Act (FACA), the TVA Board of Directors has renewed the Regional Resource Stewardship Council (RRSC) charter for an additional two-year period beginning on April 27, 2018.

FOR FURTHER INFORMATION CONTACT: Barbie Perdue, 865-632-6113, baperdue@tva.gov.

SUPPLEMENTARY INFORMATION: Pursuant to FACA and its implementing regulations, and following consultation with the Committee Management Secretariat, General Services Administration (GSA) in accordance with 41 CFR 102-3.60(a), notice is hereby given that the RRSC has been renewed for a two-year period beginning April 27, 2018. The RRSC will provide advice to TVA on its issues affecting natural resource stewardship activities. The RRSC was originally established in 1999 to advise TVA on its natural resource stewardship activities through balanced and broad range of diverse views and interests. Numerous public and private entities are traditionally involved in the stewardship of the natural resources of the Tennessee Valley region. It has been determined that the RRSC continues to be needed to provide an additional mechanism for public input regarding stewardship issues.

Dated: April 19, 2018.
Barbara A. Perdue,
Committee Management Officer.

[FR Doc. 2018-08631 Filed 4-24-18; 8:45 am]

BILLING CODE 8120-08-P